DEPARTMENT OF COMMERCE

National Oceanic and Atmospheric Administration

[RTID 0648-XC459]

Pacific Fishery Management Council; Public Meetings

AGENCY: National Marine Fisheries Service (NMFS), National Oceanic and Atmospheric Administration (NOAA), Commerce.

ACTION: Notice of public meetings.

SUMMARY: The Pacific Fishery Management Council (Pacific Council) and its advisory entities will hold online and in-person public meetings.

DATES: The Pacific Council and selected advisory committees will meet November 2-8, 2022 in Garden Grove, CA. The Pacific Council meeting will begin on Thursday, November 3, 2022, at 8 a.m. Pacific Time (PT), reconvening at 8 a.m. on Friday, November 4 through Tuesday, November 8, 2022. All meetings are open to the public, except for a Closed Session held from 8 a.m. to 9 a.m., Thursday, November 3, to address national security matters, international negotiations, litigation, or personnel matters including appointments to advisory bodies. The Pacific Council will meet as late as necessary each day to complete its scheduled business. The Pacific Council meeting will be held in a hybrid format with remote and in-person participation. The Council's Budget, Legislative, Scientific and Statistical, Enforcement Consultants, Highly Migratory Species, and Groundfish Committee meetings will occur in-person only in Garden Grove. All other advisory entities will meet by webinar only.

ADDRESSES: Meetings of the Pacific Council and aforementioned Committees will be held at the Hyatt Regency Orange County, 11999 Harbor Boulevard, Garden Grove, CA 92840; telephone: (714) 750-1234. The Council meetings will be held in-person and online. Specific meeting information, including directions on joining meetings, connecting to the live stream broadcast, and system requirements will be provided in the meeting materials on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: Mr. Merrick Burden, Executive Director, Pacific Council; telephone: (503) 820-2418 or (866) 806-7204 toll-free, or access the Pacific Council website, www.pcouncil.org, for the proposed agenda and meeting briefing materials.

SUPPLEMENTARY INFORMATION: The November 2022 meeting of the Pacific Council will be in person and streamed live on the internet. The broadcasts begin initially at 9 a.m., PT Thursday, November 3, 2022 through Tuesday, November 8, 2022. Broadcasts end when business for the day is complete. Only the audio portion and presentations displayed on the screen at the Pacific Council meeting will be broadcast. The audio portion for the public is listen-only except that an opportunity for oral public comment will be provided prior to Council Action on each agenda item. Additional information and instructions on joining or listening to the meeting can be found on the Pacific Council's website (see www.pcouncil.org).

The following items are on the Pacific Council agenda, but not necessarily in this order. Agenda items noted as “Final Action” refer to actions requiring the Council to transmit a proposed fishery management plan, proposed plan amendment, or proposed regulations to the U.S. Secretary of Commerce, under Sections 304 or 305 of the Magnuson-Stevens Fishery Conservation and Management Act. Additional detail on agenda items, Council action, and advisory entity meeting times, are described in Agenda Item A.4, Proposed Council Meeting Agenda, and will be in the advance briefing materials and posted on the Pacific Council website at www.pcouncil.org no later than Friday, October 14, 2022.

A. Call to Order

1. Opening Remarks

2. Roll Call

3. Executive Director's Report

4. Approve Agenda

B. Open Comment Period

1. Comments on Non-Agenda Items

C. Administrative Matters

1. Council Coordination Committee Report

2. National Marine Fisheries Service National Policy for Saltwater Recreational Fisheries

3. Legislative Matters

4. Chumash Heritage National Marine Sanctuary Designation

5. National Marine Fisheries Service Accomplishments and Priorities

6. Marine Planning

7. Fiscal Matters

8. Approval of Council Meeting Record

9. Membership Appointments and Council Operating Procedures

10. Future Council Meeting Agenda and Workload Planning

D. Salmon Management

1. National Marine Fisheries Service Report

2. Final Methodology Review

3. 2023 Preseason Management Schedule

E. Pacific Halibut Management

1. 2023 Catch Sharing Plan and Annual Regulations—Final Action

2. 2023 Commercial-Directed Fishery Regulations—Final Action

F. Habitat Issues

1. Current Habitat Issues

G. Highly Migratory Species Management

1. National Marine Fisheries Service Report

2. International Management Activities

3. Drift Gillnet Fishery Hard Caps—Final Action

4. Biennial Harvest Specifications and Management Measures—Preliminary

H. Groundfish Management

1. National Marine Fisheries Service Report

2. Trawl Catch Share Program and Inter-Sector Allocation Review— Hearing Schedule

3. Sablefish Gear Switching

4. Methodology Review—Final Fishery Impact Model Topics and Final Assessment Methodologies

5. Stock Definitions

6. Inseason Adjustments Including Pacific Whiting Set-Asides—Final Action

7. Electronic Monitoring

I. Coastal Pelagic Species Management

1. National Marine Fisheries Service Report

2. Preliminary Review of Exempted Fishing Permits for 2023

3. Fishery Management Plan Housekeeping Amendment

4. Stock Assessment Terms of Reference—Final Action

5. Stock Assessment Prioritization

Advisory Body Agendas

Advisory body agendas will include discussions of relevant issues that are on the Pacific Council agenda for this meeting and may also include issues that may be relevant to future Council meetings. Proposed advisory body agendas for this meeting will be available on the Pacific Council website, www.pcouncil.org, no later than Friday, October 14, 2022.

Schedule of Ancillary Meetings
Day 1—Wednesday, November 2, 2022.
Groundfish Advisory Subpanel | 8 a.m.
Groundfish Management Team | 8 a.m.
Habitat Committee | 8 a.m.
Highly Migratory Species Advisory Subpanel | 8 a.m.
Highly Migratory Species Management Team | 8 a.m.
Scientific and Statistical Committee | 8 a.m.
Salmon Technical Team | 8 a.m.
Legislative Committee | 10 a.m.
Salmon Advisory Subpanel | 1 p.m.
Budget Committee | 1 p.m.
Enforcement Consultants | 2 p.m.
Day 2—Thursday, November 3, 2022.
California State Delegation | 7 a.m.
Oregon State Delegation | 7 a.m.
Washington State Delegation | 7 a.m.
Groundfish Advisory Subpanel | 8 a.m.
Groundfish Management Team | 8 a.m.
Habitat Committee | 8 a.m.
Highly Migratory Species Advisory Subpanel | 8 a.m.
Highly Migratory Species Management Team | 8 a.m.
Scientific and Statistical Committee | 8 a.m.
Enforcement Consultants | As needed
Day 3—Friday, November 4, 2022.
California State Delegation | 7 a.m.
Oregon State Delegation | 7 a.m.
Washington State Delegation | 7 a.m.
Groundfish Advisory Subpanel | 8 a.m.
Groundfish Management Team | 8 a.m.
Highly Migratory Species Advisory Subpanel | 8 a.m.
Highly Migratory Species Management Team | 8 a.m.
Enforcement Consultants | As needed
Day 4—Saturday, November 5, 2022.
California State Delegation | 7 a.m.
Oregon State Delegation | 7 a.m.
Washington State Delegation | 7 a.m.
Groundfish Advisory Subpanel | 8 a.m.
Groundfish Management Team | 8 a.m.
Coastal Pelagic Species Advisory Subpanel | 8 a.m.
Coastal Pelagic Species Management Team | 8 a.m.
Enforcement Consultants | As needed
Day 5—Sunday, November 6, 2022.
California State Delegation | 7 a.m.
Oregon State Delegation | 7 a.m.
Washington State Delegation | 7 a.m.
Groundfish Advisory Subpanel | 8 a.m.
Groundfish Management Team | 8 a.m.
Coastal Pelagic Species Advisory Subpanel | 8 a.m.
Coastal Pelagic Species Management Team | 8 a.m.
Enforcement Consultants | As needed
Day 6—Monday, November 7, 2022.
California State Delegation | 7 a.m.
Oregon State Delegation | 7 a.m.
Washington State Delegation | 7 a.m.
Groundfish Advisory Subpanel | 8 a.m.
Groundfish Management Team | 8 a.m.
Enforcement Consultants | As needed
Day 7—Tuesday, November 8, 2022.
California State Delegation | 7 a.m.
Oregon State Delegation | 7 a.m.
Washington State Delegation | 7 a.m.

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 business days prior to the meeting date.

Authority: 16 U.S.C. 1801 et seq.

Dated: October 11, 2022.
Rey Israel Marquez,
Acting Deputy Director, Office of Sustainable Fisheries, National Marine Fisheries Service.

[FR Doc. 2022-22390 Filed 10-13-22; 8:45 am]

BILLING CODE 3510-22-P